DEPARTMENT OF THE INTERIOR

National Park Service

[NPS-WASO-NRNHL-DTS#-35989; PPWOCRADI0, PCU00RP14.R50000]

National Register of Historic Places; Notification of Pending Nominations and Related Actions

AGENCY: National Park Service, Interior.

ACTION: Notice.

SUMMARY: The National Park Service is soliciting electronic comments on the significance of properties nominated before June 3, 2023, for listing or related actions in the National Register of Historic Places.

DATES: Comments should be submitted electronically by June 30, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before June 3, 2023. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

ALABAMA

Calhoun County

Downtown Anniston Historic District (Boundary Increase II/Decrease), (Anniston MRA), 20, 101, 227 14th St. West, 130, 216, 230 15th St. West Anniston, BC100009122

Dallas County

Selma University Historic District, (Civil Rights Movement in Selma, Alabama MPS), 1501 Boynton St., Selma, MP100009126

Lowndes County

Campsite 3: Robert Gardner Farm, 2342 Frederick Douglass Rd., Lowndesboro vicinity, SG100009120

Madison County

Glenwood Cemetery, 2300 Hall Ave., Huntsville, SG100009123

Sumter County

Federation of Southern Cooperatives Rural Training and Research Center, 575 Federation Rd., Epes vicinity, SG100009125

Talladega County

Talladega County High School, 181 Magnolia St., Lincoln, SG100009127

COLORADO

Denver County

Hegner, Casper Forman and Nancy Lee, House, 2323 East Dakota Ave., Denver, SG100009119

NEW HAMPSHIRE

Coos County

Weeks State Park, 200 Weeks State Park Rd., Lancaster, SG100009128

Hillsborough County

Sullivan House, 1330 Union St., Manchester, SG100009112

NEW JERSEY

Gloucester County

Mount Pleasant School, 836 Lambs Rd., Harrison Township, SG100009116

Morris County

Boonton Ironworks Historic District, Plane St., Grace Lord Park, Boonton, SG100009115

OHIO

Fairfield County

Leist, John, House at Dutch Hollow, 10200 Cincinnati-Zanesville Rd. SW, Amanda vicinity, SG100009118

TEXAS

Comanche County

Comanche Downtown Historic District, Roughly bounded by West College and Oak Aves., North Pearl St., and the rear property line along North Mary St., Comanche, SG100009117

Gillespie County

Klein Frankreich Rural Historic District, 3723 to 5083 North US 87, 103 to 206 Old Mason Rd., Fredericksburg vicinity, SG100009111

Additional documentation has been received for the following resources:

ALABAMA

Calhoun County

Downtown Anniston Historic District (Additional Documentation) (Anniston MRA), Roughly bounded by Moore Ave., 14th St., Wilmer Ave., and 9th St., Anniston, AD91000663

NEW JERSEY

Monmouth County

Shrewsbury Historic District (Additional Documentation) Along both sides of Sycamore Ave. and Broad St., roughly between Samara Dr., Colonial Ave., and Silverbrook Rd., Shrewsbury, AD78001779

NEW MEXICO

Bernalillo County

Rosenwald Building (Additional Documentation), 320 Central Ave. SW, Albuquerque, AD78001806

Authority: Section 60.13 of 36 CFR part 60.

Dated: June 7, 2023.
Sherry A. Frear,
Chief, National Register of Historic Places/National Historic Landmarks Program.

[FR Doc. 2023-12819 Filed 6-14-23; 8:45 am]

BILLING CODE 4312-52-P